DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of one or more persons whose property and interests in property have been unblocked and removed from the List of Specially Designated Nationals and Blocked Persons List (SDN List). Their property and interests in property are no longer blocked, and U.S. persons are no longer generally prohibited from engaging in transactions with them.

DATES: See Supplementary Information section for applicable date.

FOR FURTHER INFORMATION CONTACT: OFAC: Andrea Gacki, Director, tel.: 202-622-2480; Associate Director for Global Targeting, tel: 202-622-2420; Assistant Director for Licensing, tel.: 202-622-2480; Assistant Director for Regulatory Affairs, tel.: 202-622-4855; or Assistant Director for Sanctions Compliance & Evaluation, tel.: 202-622-2490.

SUPPLEMENTARY INFORMATION:

Electronic Availability

The SDN List and additional information concerning OFAC sanctions programs are available on OFAC's website (www.treasury.gov/ofac).

Notice of OFAC Action

On January 19, 2023, OFAC determined that the following person, who had been designated pursuant to Executive Order 13224 of September 23, 2001, “Blocking Property and Prohibiting Transactions With Persons Who Commit, Threaten to Commit, or Support Terrorism,” should be removed from the SDN List, and that the property and interests in property subject to U.S. jurisdiction of the following person are unblocked, and all otherwise lawful transactions involving U.S. persons are no longer prohibited.

Individual

1. KHALIFEH, Hanna Elias (a.k.a. KHALIFAH, Hanna; a.k.a. KHALIFE, Hanna), Midan Street, Mazraat Yachouh, Metn, Lebanon; Asaad Karam Building, Midan Street, Mazraat Yachouh, Lebanon; DOB 09 Jul 1955; nationality Lebanon; Additional Sanctions Information—Subject to Secondary Sanctions Pursuant to the Hizballah Financial Sanctions Regulations; Passport RL2033216 (Lebanon) (individual) [SDGT].

Dated: January 19, 2023.
Andrea M. Gacki,
Director, Office of Foreign Assets Control, U.S. Department of the Treasury.

[FR Doc. 2023-01343 Filed 1-23-23; 8:45 am]

BILLING CODE 4810-AL-P